DEPARTMENT OF ENERGY

Federal Energy Regulatory Commission

Notice of Institution of Section 206 Proceeding and Refund Effective Date

| Docket Nos.
Blossburg Power, LLC | EL23-107-000
Brunot Island Power, LLC | EL23-108-000
Gilbert Power, LLC | EL23-109-000
Hamilton Power, LLC | EL23-110-000
Hunterstown Power, LLC | EL23-111-000
Mountain Power, LLC | EL23-112-000
New Castle Power, LLC | EL23-113-000
Orrtanna Power, LLC | EL23-114-000
Portland Power, LLC | EL23-115-000
Sayreville Power, LLC | EL23-116-000
Shawnee Power, LLC | EL23-117-000
Shawville Power, LLC | EL23-118-000
Titus Power, LLC | EL23-119-000
Tolna Power, LLC | EL23-120-000
Warren Generation, LLC | EL23-121-000

On October 6, 2023, the Commission issued an order in Docket No. EL23-107-000, et al., pursuant to section 206 of the Federal Power Act (FPA), 16 U.S.C. 824e, instituting an investigation regarding the continued justness and reasonableness of Heritage Reactive Suppliers' ¹ Rate Schedules. Blossburg Power, LLC, et al., 185 FERC ¶ 61,018 (2023).

¹ Heritage Reactive Suppliers include: Blossburg Power, LLC; Brunot Island Power, LLC; Gilbert Power, LLC; Hamilton Power, LLC; Hunterstown Power, LLC; Mountain Power, LLC; New Castle Power, LLC; Orrtanna Power, LLC; Portland Power, LLC; Sayreville Power, LLC; Shawnee Power, LLC; Shawville Power, LLC; Titus Power, LLC; Tolna Power, LLC; and Warren Generation, LLC.

The refund effective date in Docket No. EL23-107-000, et al., established pursuant to section 206(b) of the FPA, will be the date of publication of this notice in the Federal Register.

Any interested person desiring to be heard in Docket No. EL23-107-000, et al., must file a notice of intervention or motion to intervene, as appropriate, with the Federal Energy Regulatory Commission, in accordance with Rule 214 of the Commission's Rules of Practice and Procedure, 18 CFR 385.214 (2022), within 21 days of the date of issuance of the order.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 19, 2023.
Kimberly D. Bose,
Secretary.

[FR Doc. 2023-23577 Filed 10-24-23; 8:45 am]

BILLING CODE 6717-01-P